Proclamation 10514 of January 13, 2023

Religious Freedom Day, 2023

By the President of the United States of America

A Proclamation

On Religious Freedom Day, we reflect on our right to practice, pray, and preach our faiths peacefully and openly. Across the country, we practice many different religions. We celebrate many different traditions. And we honor our faiths in many different ways and places—from churches, to mosques, to synagogues, to temples. This religious freedom—this freedom to practice religion fully and freely or to practice no religion at all—is enshrined in our Constitution. And together we must continue to preserve and protect it.

This effort is as important now as it has ever been. In the United States, we are facing a rising tide of antisemitism and renewed attacks against certain religious groups. Across the world, minority communities—including Uyghurs, Rohingya, Ahmadiyya Muslims, Jews, Christians, Bahá'ís, Yezidis, atheists, and humanists—continue to face intimidation, violence, and unequal protection under the law. This hate is harmful to our communities and countries, and it is on all of us to speak out and stop it.

That is exactly what my Administration is doing. We established the Protecting Places of Worship Interagency Policy Committee last January, and implemented the largest-ever increase in funding for the physical security of non-profits—including churches, gurdwaras, mosques, synagogues, temples, and other houses of worship. In my 2023 Budget proposal, I called for another large increase in funding for this key program. In September, we hosted the United We Stand Summit, the first White House summit on combating hate-motivated violence, including violence on the basis of religion. In December, I established a new interagency group to increase and better coordinate the Federal Government's efforts to counter antisemitism, Islamophobia, and other forms of bias and discrimination within the United States. As its first order of business, this group is developing a national strategy to fight antisemitism. To build bridges across beliefs and backgrounds, the White House Office of Faith-Based and Neighborhood Partnerships is collaborating with diverse faith and community leaders on a range of projects—including helping families recover from disasters, distributing COVID-19 vaccines, improving maternal and child health, and resettling refugees across the United States.

The United States is also speaking out and standing up against religious persecution around the world. Last year, my Administration provided $20 million to help promote religious freedom and protections for members of religious minorities globally, including helping ensure that people everywhere can practice their faiths free from fear. I appointed Rashad Hussain as Ambassador at Large for International Religious Freedom—the first Muslim to hold this post—and Deborah Lipstadt, a Holocaust expert, as the first Ambassador-level Special Envoy to Monitor and Combat Antisemitism. As a founding member of the International Religious Freedom or Belief Alliance, we also have coordinated with partners around the world to promote the rights of religious minority groups and combat persecution. And we are ensuring that United States diplomats continue to receive training on religious freedom and its central importance to our work.

Faith has sustained me throughout my life. For me and for so many others, it serves as a reminder of both our collective purpose and potential in the world. But for far too many people within our borders and beyond, practicing their faith still means facing fear and persecution. Today, let us recommit ourselves to ending this hate. And let us work together to ensure that people of all religions—and no religion—are treated with equal dignity and respect.

NOW, THEREFORE, I, JOSEPH R. BIDEN JR., President of the United States of America, by virtue of the authority vested in me by the Constitution and laws of the United States, do hereby proclaim January 16, 2023, as Religious Freedom Day.

IN WITNESS WHEREOF, I have hereunto set my hand this thirteenth day of January, in the year of our Lord two thousand twenty-three, and of the Independence of the United States of America the two hundred and forty-seventh.

[FR Doc. 2023-01096

Filed 1-18-23; 8:45 am]

Billing code 3395-F3-P